DEPARTMENT OF ENERGY

Federal Energy Regulatory Commission

[Docket No. CP26-4-000]

Transcontinental Gas Pipe Line Company, LLC; Notice of Schedule for the Preparation of an Environmental Assessment for the North Padre Island Lateral Abandonment Project

On October 8, 2025, Transcontinental Gas Pipe Line Company, LLC (Transco) filed an application in Docket No. CP26-4-000 requesting a Certificate of Public Convenience and Necessity pursuant to Section 7(b) of the Natural Gas Act to abandon certain natural gas pipeline facilities. The proposed project is known as the North Padre Island Lateral Abandonment Project (Project) and would abandon approximately 50 miles of 24-inch-diameter interstate natural gas transmission pipeline and associated facilities in Brooks, Jim Wells, Kenedy, and Kleberg Counties, Texas.

On October 23, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1765189170.

Schedule for Environmental Review

Issuance of EA April 22, 2026

90-day Federal Authorization Decision Deadline ² July 21, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

As described above, Transco proposes to abandon approximately 50 miles of 24-inch-diameter, interstate natural gas transmission pipeline and associated facilities in Brooks, Jim Wells, Kenedy, and Kleberg Counties, Texas. Beginning in Brooks County, Texas, Transco's existing pipeline extends across the Padre Island National Seashore into the Gulf of America and would mostly be abandoned in-place (45 miles). With exceptions, small segments of the pipeline would be abandoned by removal per landowner easement agreements, under state and federal highways, railroad crossings, and land managed by the Texas General Land Office (5 miles). Transco would also abandon a non-jurisdictional dehydration and storage facility (Station 14) in Brooks County, Texas. According to Transco, its Project would eliminate costs and risks associated with maintenance of these facilities.

Background

On November 19, 2025, the Commission issued a Notice of Scoping Period Requesting Comments on Environmental Issues for the Proposed North Padre Island Lateral Abandonment Project (Notice of Scoping). The Notice of Scoping was sent to affected landowners; federal, state, and local government agencies; elected officials; environmental and public interest groups; Native American tribes; other interested parties; and local libraries and newspapers. In response to the Notice of Scoping, the Commission received comments from the Environmental Protection Agency (EPA) and the National Park Service (NPS). In its comments, EPA recommends that Project effects on air and water quality be addressed. The NPS would like to participate in the development of the EA as it pertains to the abandonment of facilities on NPS lands. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-4), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 7, 2026.
Debbie-Anne A. Reese,
Secretary.

[FR Doc. 2026-00406 Filed 1-12-26; 8:45 am]

BILLING CODE 6717-01-P